DEPARTMENT OF HEALTH AND HUMAN SERVICES

Centers for Medicare and Medicaid Services

[Document Identifier: CMS-684A-I, CMS-685, and CMS-10084]

Agency Information Collection Activities: Proposed Collection; Comment Request

AGENCY: Centers for Medicare and Medicaid Services.

In compliance with the requirement of section 3506(c)(2)(A) of the Paperwork Reduction Act of 1995, the Centers for Medicare and Medicaid Services (CMS) (formerly known as the Health Care Financing Administration (CMS)), Department of Health and Human Services, is publishing the following summary of proposed collections for public comment. Interested persons are invited to send comments regarding this burden estimate or any other aspect of this collection of information, including any of the following subjects: (1) The necessity and utility of the proposed information collection for the proper performance of the agency's functions; (2) the accuracy of the estimated burden; (3) ways to enhance the quality, utility, and clarity of the information to be collected; and (4) the use of automated collection techniques or other forms of information technology to minimize the information collection burden.

1. Type of Information Collection Request: Extension of a currently approved collection; Title of Information Collection: End-Stage Renal Disease (ESRD) Network Business Proposal Forms and Supporting Regulations in 42 CFR 405.2110 and 405.2112; Form No.: CMS-684A-I (OMB# 0938-0658); Use: The submission of business proposal information by current ESRD networks and other bidders, according to the business proposal instructions, meets CMS's need for meaningful, consistent, and verifiable data when evaluating contract proposals; Frequency: Other: every 3 years; Affected Public: Not-for-profit institutions; Number of Respondents: 18; Total Annual Responses: 36; Total Annual Hours: 1,080.

2. Type of Information Collection Request: Extension of a currently approved collection; Title of Information Collection: End-Stage Renal Disease (ESRD) Network Semi-Annual Cost Report Forms and Supporting Regulations in 42 CFR 405.2110 and 405.2112; Form No.: CMS-685 (OMB# 0938-0657); Use: Submission of semi-annual cost reports allows CMS to review, compare, and project ESRD network costs. The reports are used as an early warning system to determine whether the networks are in danger of exceeding the total cost of the contract. Additionally, CMS can analyze line item costs to identify any significant aberrations; Frequency: Semi-annually; Affected Public: Not-for-profit institutions; Number of Respondents: 18; Total Annual Responses: 36; Total Annual Hours: 108.

3. Type of Information Collection Request: Extension of a currently approved collection; Title of Information Collection: Design and Implementation of a Targeted Beneficiary Survey on Access to Physician Services Among Medicare Beneficiaries; Form No.: CMS-10084 (OMB# 0938-0890); Use: This survey of Medicare beneficiaries in targeted communities will be used to obtain information on whether they are experiencing problems accessing physician services. CMS will use data collected to determine if access problems exist at all, where and why problems may arise, whom they affect, and what the consequences are for Medicare beneficiaries. CMS will also learn the extent to which physician access problems are Medicare-specific.; Frequency: One-time; Affected Public: Individuals or Households; Number of Respondents: 4,000; Total Annual Responses: 4,000; Total Annual Hours: 958.

To obtain copies of the supporting statement and any related forms for the proposed paperwork collections referenced above, access CMS's Web site address at http://cms.hhs.gov/regulations/pra/default.asp, or E-mail your request, including your address, phone number, OMB number, and CMS document identifier, to Paperwork@cms.hhs.gov, or call the Reports Clearance Office on (410) 786-1326. Written comments and recommendations for the proposed information collections must be mailed within 60 days of this notice directly to the CMS Paperwork Clearance Officer designated at the following address: CMS, Office of Strategic Operations and Regulatory Affairs, Division of Regulations Development and Issuances, Attention: Dawn Willinghan, Room: C5-14-03, 7500 Security Boulevard, Baltimore, Maryland 21244-1850.

Dated: May 15, 2003.
Dawn Willinghan,
CMS Reports Clearance Officer, Division of Regulations Development and Issuances, Office of Strategic Operations and Strategic Affairs.

[FR Doc. 03-12801 Filed 5-21-03; 8:45 am]

BILLING CODE 4120-03-P